DEPARTMENT OF TRANSPORTATION

Federal Aviation Administration

14 CFR Part 71

[Docket No. FAA-2020-1147; Airspace Docket No. 20-ASO-30]

RIN 2120-AA66

Amendment of Area Navigation (RNAV) Route Q-29; Northeastern United States

AGENCY: Federal Aviation Administration (FAA), DOT.

ACTION: Final rule; correction.

SUMMARY: This action corrects a final rule published by the FAA in the Federal Register on July 26, 2021, that amends area navigation (RNAV) route Q-29 in the northeastern United States. This action is in support of the Northeast Corridor Atlantic Coast Route Project (NEC ACR) for improved efficiency of the National Airspace System (NAS) while reducing the dependency on ground based navigational systems. This action makes an administrative correction to the spelling of the final point on the legal description of RNAV route Q-29.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC, 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

History

The FAA published a final rule for Docket No. FAA-2020-1147 in the Federal Register (86 FR 39952; July 26, 2021), amending RNAV route Q-29 in the northeastern United States. The Q-route amendment supports the strategy to transition the NAS from a ground-based navigation aid and radar-based system to a satellite-based PBN system. The final point, DUNOM, was incorrectly spelled in the legal description and this action only corrects that error.

United States area navigation routes are published in paragraph 2006 of FAA Order 7400.11E, dated July 21, 2020, and effective September 15, 2020, which is incorporated by reference in 14 CFR 71.1. The RNAV routes listed in this document will be published subsequently in the Order.

Availability and Summary of Documents for Incorporation by Reference

This document amends FAA Order 7400.11E, Airspace Designations and Reporting Points, dated July 21, 2020 and effective September 15, 2020. FAA Order 7400.11E is publicly available as listed in the ADDRESSES section of this document. FAA Order 7400.11E lists Class A, B, C, D, and E airspace areas, air traffic service routes, and reporting points.

Correction to Final Rule

Accordingly, pursuant to the authority delegated to me, the description of RNAV route Q-29 as published in the Federal Register on July 26, 2021 (86 FR 39952) is corrected as follows:

Paragraph 2006 United States Area Navigation Routes.

* * * * *

Q-29 HARES, LA to DUNOM, ME
HARES, LA | WP | (Lat. 33°00′00.00″ N, long. 091°44′00.00″ W)
BAKRE, MS | WP | (Lat. 33°53′45.85″ N, long. 090°58′04.75″ W)
MEMFS, TN | WP | (Lat. 35°00′54.62″ N, long. 089°58′58.87″ W)
OMDUE, TN | WP | (Lat. 36°07′47.32″ N, long. 088°58′11.49″ W)
SIDAE, KY | WP | (Lat. 37°20′00.00″ N, long. 087°50′00.00″ W)
CREEP, OH | FIX | (Lat. 39°55′15.28″ N, long. 084°18′31.41″ W)
KLYNE, OH | WP | (Lat. 40°41′54.46″ N, long. 083°18′44.19″ W)
DUTSH, OH | WP | (Lat. 41°08′26.35″ N, long. 082°33′12.68″ W)
WWSHR, OH | WP | (Lat. 41°20′34.09″ N, long. 082°03′05.76″ W)
DORET, OH | FIX | (Lat. 41°48′05.90″ N, long. 080°35′ 04.64″ W)
Jamestown, NY (JHW) | VOR/DME | (Lat. 42°11′18.99″ N, long. 079°07′16.70″ W)
HANKK, NY | FIX | (Lat. 42°53′41.82″ N, long. 077°09′15.21″ W)
GONZZ, NY | WP | (Lat. 43°05′22.00″ N, long. 076°41′12.00″ W)
KRAZZ, NY | WP | (Lat. 43°25′00.00″ N, long. 074°18′00.00″ W)
NIPPY, NY | FIX | (Lat. 43°41′23.08″ N, long. 073°58′06.74″ W)
CABCI, VT | WP | (Lat. 44°49′19.94″ N, long. 071°42′55.14″ W)
EBONY, ME | FIX | (Lat. 44°54′08.68″ N, long. 067°09′23.65″ W)
DUNOM, ME | WP | (Lat. 44°54′09.29″ N, long. 066°58′13.68″ W)

* * * * *

Issued in Washington, DC, on August 23, 2021.
George Gonzalez,
Acting Manager, Rules and Regulations Group.

[FR Doc. 2021-18486 Filed 8-27-21; 8:45 am]

BILLING CODE 4910-13-P